DEPARTMENT OF HEALTH AND HUMAN SERVICES

Centers for Disease Control and Prevention

[30DAY-24-03]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: YMC Tween Event Follow-up Survey—NEW—National Center For Chronic Disease Prevention and Health Promotion (NCCDPHP), Centers for Disease Control and Prevention (CDC). In FY 2001, Congress established the Youth Media Campaign at the Centers for Disease Control and Prevention (CDC). Specifically, the House Appropriations Language said: The Committee believes that, if we are to have a positive impact on the future health of the American population, we must change the behaviors of our children and young adults by reaching them with important health messages. CDC, working in collaboration with the Health Resources and Services Administration (HRSA), the National Center for Child Health and Human Development (NICHD), and the Substance Abuse and Mental Health Services Administration (SAMHSA), is coordinating an effort to plan, implement, and evaluate a campaign designed to clearly communicate messages that will help kids develop habits that foster good health over a lifetime. The Campaign is based on principles that have been shown to enhance success, including: designing messages based on research; testing messages with the intended audiences; involving young people in all aspects of Campaign planning and implementation; enlisting the involvement and support of parents and other influencers; tracking the Campaign's effectiveness and revising Campaign messages and strategies as needed.

Close monitoring of the implementation of the program through process evaluation is essential to the success of the campaign. Campaign planners are interested in understanding how well and under what conditions the Campaign was implemented and the size of the audience that was exposed to the messages. This understanding will facilitate any strategy changes that may be necessary to increase the Campaign's effectiveness and sustainability.

The Youth Media Campaign proposes to conduct process evaluation with convenience samples following community events in up to 7 communities nationwide. This process evaluation will gather information from teens and their parents through follow-up telephone interviews.

The purpose of the process research is to determine to what extent the Youth Media Campaign was implemented as planned, the challenges that occurred and how they were addressed in order to refine campaign strategies. The total annualized burden for this data collection is 485 hours.

Respondents | Number of respondents | Number of responses/ respondent | Average burden of response (in hours)
Screener (Parent) | 3,332 | 1 | 2/60
Child | 2,249 | 1 | 10/60

Dated: January 27, 2003.
Thomas Bartenfeld,
Acting Associate Director for Policy, Planning and Evaluation, Centers for Disease Control and Prevention.

[FR Doc. 03-2276 Filed 1-30-03; 8:45 am]

BILLING CODE 4163-18-P